DEPARTMENT OF THE INTERIOR

National Park Service

Draft Environmental Impact Statement; Yosemite Institute Environmental Education Campus; Yosemite National Park; Mariposa and Tuolumne Counties, California; Notice of Availability

SUMMARY: Pursuant to section 102(2)(C) of the National Environmental Policy Act of 1969 (Pub. L. 91-190, as amended), and the Council on Environmental Quality Regulations (40 CFR part 1500-1508), the Department of the Interior, National Park Service (NPS), has prepared a Draft Environmental Impact Statement (Draft EIS) identifying and evaluating three alternatives for managing the Yosemite Institute Environmental Education Campus in Yosemite National Park, California. The Draft EIS for the proposed Environmental Education Campus identifies and analyzes two “action” alternatives and a “no-action” alternative. The full spectrum of foreseeable environmental consequences are assessed and suitable mitigation strategies are considered; an “environmentally preferred” course of action is also identified. Concurrently completion of the EIS process will fulfill the public review requirements of § 106 of the National Historic Preservation Act.

Range of Alternatives: Under the “no-action” alternative (Alternative 1), there would be no change in the management direction, program, location, or conditions at the Crane Flat campus. Necessary maintenance and repairs would continue, but no major rehabilitation of facilities, construction of buildings, or improvements to utilities would occur. There would be no change in size of facilities—the number of student and staff beds (76 and 8, respectively) would remain the same. The overall number of students in the park per session would remain the same (361 students), with the majority of students in commercial lodging in Yosemite Valley.

Under both “action” alternatives, new energy-efficient, sustainable facilities would be constructed to accommodate more students on campus, rather than using additional commercial lodging in Yosemite Valley. These improvements would provide a safer environment and provide more opportunities for students from diverse backgrounds to participate in the program. All facilities would achieve fire, health, safety and accessibility standards.

Under Alternative 2, the Crane Flat campus would be redeveloped, doubling its capacity (to 154 students, 14 staff), and greatly reducing reliance upon commercial lodging in Yosemite Valley. Most campus buildings would be removed and replaced. Historic structures on the campus would be retained, and some new facilities would be constructed. Utilities would be upgraded to conserve water, meet additional capacity, and achieve health, safety, and accessibility standards. The new campus would be reconstructed largely in its existing location (shifting the campus cabins upslope, away from a sensitive meadow). Under Alternative 3 (agency-preferred), a new campus would be located at Henness Ridge. New facilities would be constructed to accommodate 224 students and 20 staff and to meet park operational needs.

SUPPLEMENTARY INFORMATION: Public scoping was initiated in 2002; the park conducted two public meetings on June 26 and June 29, 2002 at the East Auditorium in Yosemite Valley. A Notice of Intent to prepare a Draft EIS for the “Crane Flat Environmental Education Campus Redevelopment” published in the Federal Register on September 23, 2002 established a 45-day scoping period (comments were accepted through November 14, 2002). During the scoping period, NPS held discussions and briefings with: tribes, park staff, elected officials, public service organizations, and other interested members of the public. The feedback received helped broaden the range of alternatives to include consideration of additional sites for the campus; a Scoping Summary is available and may be obtained by contacting the park as noted below.

Copies of the Draft EIS will be distributed to the general public, sent directly to those who have requested it, as well as to congressional delegations, state and local elected officials, federal agencies, tribes, organizations, local businesses, public libraries, and the news media. Reference copies will be available at park headquarters in Yosemite Valley, the Office of Environmental Planning and Compliance at the NPS Maintenance Complex in El Portal, and at local and regional libraries in El Portal, Mariposa, Oakhurst, Sonora, San Francisco, and Los Angeles. The complete document will be posted on the Yosemite National Park Web page at http:/www.nps.gov/yose/parkmgmt/planning.htm. Additional copies can be requested by contacting the park through one of the methods listed below. Public meetings and project site visits will be scheduled during the public review period; details regarding specific dates, locations and time will be posted on the park's planning Web page (address above) and announced via local and regional news media.

Review and Comment: All written comments must be postmarked or transmitted not later than July 15, 2009 (this information will also be posted on the project Web site and announced via local and regional media). All comments received will become available for public review in the park's planning and compliance office. Before including your address, phone number, e-mail address, or other personal identifying information, you should be aware that your entire comment—including your personal identifying information—may be made publicly available at any time. While you can ask us in your comment to withhold your personal identifying information from public review, we cannot guarantee that we will be able to do so. All comments should be addressed to the Superintendent, Yosemite National Park, and may be mailed to Superintendent, Yosemite National Park, Attn: Environmental Education Campus DEIS, P.O. Box 577, Yosemite, California 95389 (comments may also be sent by facsimile to (209) 379-1294, Attn: Environmental Planning and Compliance, YIEEC; or transmitted electronically to Yose_Planning@nps.gov with YIEEC typed in the subject line).

Decision Process: All comments as may be received on the draft EIS will be analyzed and fully considered in preparing the Final EIS, which is anticipated to be available for public release in Fall-Winter 2009. Availability of the Final EIS will be announced in the Federal Register and via local and regional press media and direct mailings. Following a minimum 30-day waiting period, a Record of Decision will be prepared and notice of approval similarly published in the Federal Register. As a delegated EIS, the official responsible for approval of the project is the Regional Director, Pacific West Region; subsequently the official responsible for project implementation would be the Superintendent, Yosemite National Park.

Dated: February 11, 2009.
George J. Turnbull,
Acting Regional Director, Pacific West Region.

Editorial Note: This document was received in the Office of the Federal Register on May 28, 2009.

[FR Doc. E9-12726 Filed 6-2-09; 8:45 am]

BILLING CODE 4312-FY-M